DEPARTMENT OF AGRICULTURE

Forest Service

Cibola National Forest; New Mexico; Tajique Watershed Restoration Project

AGENCY: Forest Service, USDA.

ACTION: Notice of intent to prepare an environmental impact statement.

SUMMARY: The Department of Agriculture, Forest Service has initiated the process to prepare an Environmental Impact Statement for the Tajique Watershed Restoration Project on the Cibola National Forest, Mountainair Ranger District. The proposed action would restore vegetation conditions in a southwest pine ecosystem and reduce the fire hazard in the Manzano Mountains by treating approximately 17,000 acres within the watershed. The proposal includes forest thinning and prescribed burns to treat identified stands. The objective is to restore the landscape to historic conditions that are adopted to frequent fire return intervals as well as restore grass and shrub components in the understory and increase vegetation and wildlife diversity. A non-significant forest Plan amendment would be required in order to use new methodology for analyzing visual resources. Several small mountain communities would benefit from the proposed treatments that would create defensible space around homes and other Forest facilities. This proposal is being prepared to meet the intent of the Healthy Forest Restoration Act (2003).

DATES: Comments concerning the scope of the analysis must be received by September 3, 2004. The draft environmental impact statement is expected to be published in October, 2004, and the final environmental impact statement is expected in December 2004.

ADDRESSES: Send written comments to Deborah Walker, NEPA Coordinator; Cibola National Forest; 2113 Osuna Road NE.; Albuquerque, NM 87113 or FAX to 505-346-3901. Copies of the proposed action, project location maps, or the Environmental Impact Statement, when available, may be obtained from the Cibola National Forest; 2113 Osuna Road, NE.; Albuquerque, NM 87113; or from the Mountainair Ranger District; 40 Ranger Station Road (P.O. Box 69); Mountainair, NM 87036, or from the Forest website at http://www.fs.fed.us/r3/cibola/projects/index.shtml.

FOR FURTHER INFORMATION CONTACT: For further information, mail correspondence to Deborah Walker, NEPA Coordinator; Cibola National Forest; 2113 Osuna Road, NE.; Albuquerque, NM 87113 or phone 505-346-3888.

SUPPLEMENTARY INFORMATION:

Purpose and Need for Action

The purpose of the Tajique watershed restoration project is to:

1. Improve watershed health within this portion of the Tajique watershed.

2. Improve forest health condition by allowing fire to resume its natural role in the ecosystem and restore forest conditions to those found prior to fire suppression.

3. Reduce the fire hazard from high to low by reducing stand density and changing stand structure.

4. Provide and maintain functional wildlife habitat.

Proposed Action

On December 3, 2003, Congress passed the Healthy Forest Restoration Act (HFRA) as a means to reduce the threat of destructive wildfires. This project is proposed as a way in which to meet the intent of HFRA and reduce hazardous fuels within this watershed while also reducing the threat of wildfire to the communities of Taljique, Torreon, Sherwood Forest, and Forest Valley. The proposed action was developed in collaboration with many of the stakeholders who are imminently affected by activities within this watershed and who are also most at risk to loss should a catastrophic wildfire occur in the future.

In addition to responding to the concern over wildfire, activities within the Tajique watershed would provide an opportunity for local economic development and encourage financial viability in rural communities that depend on National Forest System lands. The National Fire Plan (2001) and the 10-Year Comprehensive Strategy (2001) placed an emphasis on promoting markets for traditionally under-utilized wood products that could be derived from fuel reduction projects. Thus in order to meet the direction of the National Fire Plan, proposed activities would encourage the development of those markets in local communities and assist in providing economic stability over the next several years.

The Cibola National Forest proposes to implement a restoration project in the Tajique watershed in order to restore forest structure within conifer stands, meadows, and riparian areas to conditions when fire was prevalent across the landscape. Proposed activities would also serve to increase diversity and density of herbaceous and shrub understory vegetation.

The project area covers 17,500 acres, of which approximately 17,000 acres would be treated to meet restoration goals through the use of mechanical thinning and prescribed burns. Vegetation treatments could include removal of excess trees across all size classes, from seedlings to large diameter trees. A combination of commercial harvest, stewardship contracts, service contracts, biomass removal (chipping), commercial fuelwood contracts, and personal use permits would be used to reduce tree density in order to return the watershed to its range of natural variability. Conifers greater than 9 inches diameter at breast height (DBH) may be removed as needed as part of the treatment. Smaller size trees would be removed for fuelwood or chipped for biomass. Prescribed burn treatments would include pile burns, jackpot burns, and broadcast burns to reduce activity generated and existing fuel loads. The existing road system would serve to provide access to the treatment units; however, road maintenance work and an estimate 28 miles of additional temporary roads would be constructed to provide access. Constructed temporary roads would be obliterated once project activities were completed.

Specific resource protection measures as well as Forest standards and guidelines would also be included to meet restoration objectives. A monitoring plan would be developed as part of the treatment plan. The plan would include pre- and post-treatment implementation, effectiveness, and validation monitoring.

Vegetation Treatments

Ponderosa Pine

Treatments would reduce tree density while maintaining a variety of age and size classes that restore historic natural structure. Treatments would mimic predicted historic conditions, thus there would be a variety of tree densities across the landscape. High density stands would retain more trees per acre, fewer openings, and less patchiness while moderate or low density stands would have fewer trees, small openings, and more of an herbaceous component in the understory.

Mixed Conifer

The proposed action would provide for a variety of conifer species in varying densities, size and age classes across the landscape, while maintaining a higher canopy cover in moderate to high density stands. Within MSO protected habitat, no trees greater than 9 inches DBH would be harvested. Within MSO restricted habitat, no trees greater than 24 inches DBH would be harvested.

Piñon Pine/Juniper

Activities within this vegetation type would create stands that resemble historic structures ranging from savannah-like conditions to higher density woodland. Stands would have variable spacing with a patchy character that promotes herbaceous vegetation growth and soil stability. In moderate and low density stands, treatments would retain naturally occurring clumps of trees (2 to 25 per clump) and a variety of size and age classes. High density stands would retain more trees per acre. Individual trees would be scattered across the landscape with irregular spacing between clumps.

Ponderosa Pine/Piñon Pine/Juniper Transition Zones

The proposed action would reduce piñon pine/juniper encroachment and restore ponderosa pine where it historically was dominant or restore woodland conditions to piñon pine/juniper dominated stands.

Riparian Corridors and Meadows

Activities would restore hydrologic functions by removing encroaching conifers, which would raise the water table, increase riparian vegetation, and improve channel stability. Aspen clones would be treated to improve aspen regeneration, growth and vigor.

Other Treatment Areas

Fuelbreaks

Construct 1,100 acres of shaded fuelbreaks using mechanical or manual harvest methods to establish an initial level of fire protection surrounding adjacent communities and along ridgelines.

Northern Goshawk Dispersal Areas

Move stands toward habitat conditions conducive to providing for dispersal post-fledging family areas in Jaral Canon, Canon del Apache, Canon del Tronco Negro, and Canon de la Gallina. Thin from below to create desired stand conditions, and retain large diameter trees and riparian vegetation. Manage stands outside of these areas according to standards and guidelines for Northern goshawk forage areas as provided in the Forest Plan.

Possible Alternatives

A possible alternative to the proposed action at this time includes a no action alternative that would not treat the Tajique watershed to reduce fuel levels.

Responsible Official

The responsible official is Liz Agpaoa, Forest Supervisor, Cibola National Forest Supervisor's Office, 2113 Osuna Road, NE., Albuquerque, NM 87113-1001.

Nature of Decision To Be Made

The decision to be made is whether to implement the proposed action as described above, to vary the design of the proposed action to meet the purpose and need for action through some other combination of activities, or to take no action at this time.

Scoping Process

The Council on Environmental Quality (CEQ) emphasizes an early and open process for determining the scope of issues to be addressed and for identifying significant issues related to the proposed action. As part of the scoping process, the lead agency shall invite the participation of affected Federal, State, and local agencies, any affected Indian tribe, and other interested persons (40 CFR 1501.7). In order to meet the intent of the CEQ regulations, and to meet the requirements under the Healthy Forest Restoration Act, the Cibola Forest will implement the following steps to ensure an early and open public involvement process:

1. Develop the proposed action in collaboration with potentially interested and affected persons, agencies, organizations, and tribes prior to initiation of NEPA.

2. Include the proposed action on the list of projects for annual tribal consultation. Address concerns identified during tribal consultation.

3. Submit the proposed action to the public during scoping, and request comments or issues (points of dispute, debate, or disagreement) regarding the potential effects.

4. Include the proposal on the Cibola Schedule of Proposed Actions quarterly report.

5. Provide an opportunity for the public to comment during an open public meeting. Two meetings are planned for this process, one a public field trip to the project area and one a general meeting at a local community center. Both meetings would occur in August, 2004. Exact dates and locations are yet to be determined.

6. Use comments received to determine significant issues and additional alternatives to address within the analysis.

7. Consult with the U.S. Fish and Wildlife Service and the State Historical Preservation Office regarding potential affects to species or archaeological sites.

8. Prepare and distribute a draft environmental impact statement for a 45-day public comment period.

Permits or Licenses Required

The proposed action includes the use of prescribed fire to reduce fuel loads. A burn plan would be prepared prior to any ignition, and a burn permit would be obtained from the State of New Mexico authorizing the use of the airshed.

Comment Requested

This notice is intent initiates the scoping process which guides the development of the environmental impact statement. Comments should focus on the nature of the action proposed and should be relevant to the decision under consideration. Comments received from the public will be evaluated for significant issues and used to assist in the development of additional alternatives.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. [Vermont Yankee Nuclear Power Corp. v. NRDC, 435 U.S. 519, 553 (1978).] Also, environmental objections that could be raised at the draft environmental impact statement stage but that are not raised until after completion of the final environmental impact statement may be waived or dismissed by the courts. [City of Angoon v. Hodel, 803 F.2d 1016, 1022 (9th Cir. 1986) and Wisconsin Heritages, Inc. v. Harris, 490 F. Supp. 1334, 1338 (E.D. Wis. 1980)] Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: August 12, 2004.
Liz Agpaoa,
Forest Supervisor, Cibola National Forest.

[FR Doc. 04-18926 Filed 8-19-04; 8:45 am]

BILLING CODE 3410-11-M